SECURITIES AND EXCHANGE COMMISSION

[Release Nos. 33-8575; 34-51730; File No. 265-23]

Advisory Committee on Smaller Public Companies.

AGENCY: Securities and Exchange Commission.

ACTION: Notice of meeting of SEC Advisory Committee on Smaller Public Companies.

NOTICE: The Securities and Exchange Commission Advisory Committee on Smaller Public Companies is providing notice that it will hold a public meeting on Thursday, June 16, 2005, at Columbia Law School, Jerome Greene Hall, Room 103, 435 West 116th Street, New York, New York, from 1 p.m. to 5:30 p.m. The meeting will reconvene on Friday, June 17, 2005, from 9 a.m. to 12:30 p.m. The meeting will be audio webcast on the Commission's Web site at http://www.sec.gov.

The agenda for the Thursday session of the meeting includes considering reports of subcommittees or other subgroups of the Advisory Committee, approval of the Committee Agenda published for public comment in the Federal Register on April 29, 2005 and discussing any recommendations proposed for adoption by the Advisory Committee. A subgroup appointed to make suggestions to the Advisory Committee on defining the term “smaller public company” for purposes of the Advisory Committee's work is expected to deliver a report. The agenda for the Friday session includes considering written statements that have been filed in connection with the meeting and hearing oral testimony. The oral testimony will focus on methods the Advisory Committee might recommend to scale securities regulations for smaller public companies to assure that the costs and burdens of the regulations are commensurate with the benefits to investors and the public.

Deadlines: Requests to present oral testimony should be received on or before June 6, 2005. Written statements should be received on or before June 8, 2005.

Submissions: Written statements may be submitted by any of the following methods:

Electronic Statements

• Use the Commission's Internet submission form (http://www.sec.gov/info/smallbus/acspc.shtml); or

• Send an e-mail message to rule-comments@sec.gov. Please include File Number 265-23 on the subject line; or

• Use the Federal eRulemaking Portal (http://www.regulations.gov). Follow the instructions for submitting comments.

Paper Statements

• Send paper statements in triplicate to Jonathan G. Katz, Secretary, Securities and Exchange Commission, 450 Fifth Street, NW., Washington, DC 20549-0609.

All submissions should refer to File No. 265-23. This file number should be included on the subject line if e-mail is used. To help us process and review your statement more efficiently, please use only one method. The Commission will post all statements on the Commission's Web site (http://www.sec.gov./info/smallbus/acspc.shtml).

Statements also will be available for public inspection and copying in the Commission's Public Reference Room, 100 F Street, NE., Washington, DC 20549. All statements received will be posted without change; we do not edit personal identifying information from submissions. You should submit only information that you wish to make available publicly.

Persons wishing to provide oral testimony at the Friday session should submit a request to testify to the SEC staff contact person listed below by the deadline given above. The SEC staff will notify persons whom the Advisory Committee Co-Chairs decide to invite to provide oral testimony. Sufficient time may not be available to accommodate all those wishing to testify. The Co-Chairs have reserved the right to select witnesses and limit the time of witnesses invited to testify. Persons testifying are requested to submit a written statement in accordance with the instructions provided above.

FOR FURTHER INFORMATION CONTACT: Kevin M. O'Neill, Special Counsel, at (202) 551-3260 or oneillk@sec.gov, Office of Small Business Policy, Division of Corporation Finance, Securities and Exchange Commission, 450 Fifth Street, NW., Washington, DC 20549-0310.

SUPPLEMENTARY INFORMATION: In accordance with section 10(a) of the Federal Advisory Committee Act, 5 U.S.C. App. 1, § 10(a), Gerald J. Laporte, Designated Federal Officer of the Committee, has approved publication of this notice at the request of the Committee.

Dated: May 24, 2005.
Jonathan G. Katz,
Committee Management Officer.

[FR Doc. E5-2724 Filed 5-27-05; 8:45 am]

BILLING CODE 8010-01-P